DEPARTMENT OF TRANSPORTATION

Maritime Administration

[USCG-2006-26009]

Calypso LNG LLC, Calypso Liquefied Natural Gas Deepwater Port License Application; Preparation of Environmental Impact Statement

AGENCY: Maritime Administration, DOT.

ACTION: Notice of intent; notice of public meeting; request for comments.

SUMMARY: The Coast Guard and the Maritime Administration (MARAD) announce that the Coast Guard intends to prepare an environmental impact statement (EIS) as part of the environmental review of this license application. The application describes a project that would be located in the Atlantic Ocean, approximately 9 miles northeast of Port Everglades, Florida. Publication of this notice begins a scoping process that will help identify and determine the scope of environmental issues to be addressed in the EIS. This notice requests public participation in the scoping process and provides information on how to participate.

DATES: The public meeting in Fort Lauderdale, FL will be held on December 6, 2006. The public meeting will be held from 6:30 p.m. to 8:30 p.m. and will be preceded by an open house from 5 p.m. to 6 p.m. The public meeting may end earlier or later than the stated time, depending on the number of persons wishing to speak. Material submitted in response to the request for comments must reach the Docket Management Facility by December 21, 2006.

ADDRESSES: The public meetings will be held at: Fort Lauderdale Marriott North, 6500 North Andrews Avenue, Fort Lauderdale, Florida 33309; 954-771-0440.

Address docket submissions for USCG-2006-26009 to: Docket Management Facility, U.S. Department of Transportation,400 Seventh Street SW., Washington, DC 20590-0001.

The Docket Management Facility accepts hand-delivered submissions, and makes docket contents available for public inspection and copying at this address, in room PL-401, between 9 a.m. and 5 p.m., Monday through Friday, except Federal holidays. The Facility's telephone is 202-366-9329, its fax is 202-493-2251, and its Web site for electronic submissions or for electronic access to docket contents is http://dms.dot.gov.

FOR FURTHER INFORMATION CONTACT: Mary K. Jager, U.S. Coast Guard, telephone: 202-372-1454, e-mail: mary.k.jager@uscg.mil. If you have questions on viewing the docket, call Renee V. Wright, Program Manager, Docket Operations, telephone: 202-493-0402.

SUPPLEMENTARY INFORMATION:

Public Meeting and Open House

We invite you to learn about the proposed deepwater port at an informational open house, and to comment at a public meeting on environmental issues related to the proposed deepwater port. Your comments will help us identify and refine the scope of the environmental issues to be addressed in the EIS.

In order to allow everyone a chance to speak at the public meeting, we may limit speaker time, or extend the meeting hours, or both. You must identify yourself, and any organization you represent, by name. Your remarks will be recorded or transcribed for inclusion in the public docket.

You may submit written material at the public meeting, either in place of or in addition to speaking. Written material must include your name and address, and will be included in the public docket.

Public docket materials will be made available to the public on the Docket Management Facility's Docket Management System (DMS). See “Request for Comments” for information about DMS and your rights under the Privacy Act.

All of our public meeting locations are wheelchair-accessible. If you plan to attend the open house or public meeting, and need special assistance such as sign language interpretation or other reasonable accommodation, please notify the Coast Guard (see FOR FURTHER INFORMATION CONTACT) at least 3 business days in advance. Include your contact information as well as information about your specific needs.

Request for Comments

We request public comments or other relevant information on environmental issues related to the proposed deepwater port. The public meeting is not the only opportunity you have to comment. In addition to or in place of attending a meeting, you can submit comments to the Docket Management Facility during the public comment period (see DATES). We will consider all comments and material received during the comment period.

Submissions should include:

• Docket number USCG-2006-26009.

• Your name and address.

• Your reasons for making each comment or for bringing information to our attention.

Submit comments or material using only one of the following methods:

• Electronic submission to DMS, http://dms.dot.gov.

• Fax, mail, or hand delivery to the Docket Management Facility (see ADDRESSES). Faxed or hand delivered submissions must be unbound, no larger than 8½ by 11 inches, and suitable for copying and electronic scanning. If you mail your submission and want to know when it reaches the Facility, include a stamped, self-addressed postcard or envelope.

Regardless of the method used for submitting comments or material, all submissions will be posted, without change, to the DMS Web site (http://dms.dot.gov), and will include any personal information you provide. Therefore, submitting this information makes it public. You may wish to read the Privacy Act notice that is available on the DMS Web site, or the Department of Transportation Privacy Act Statement that appeared in the Federal Register on April 11, 2000 (65 FR 19477).

You may view docket submissions at the Docket Management Facility (see ADDRESSES), or electronically on the DMS Web site.

Background

Information about deepwater ports, the statutes and regulations governing their licensing, and the receipt of the current application for the proposed Calypso deepwater port appears at 71 FR 65031, November 6, 2006. The “Summary of the Application” from that publication is reprinted below for your convenience.

Consideration of a deepwater port license application includes review of the proposed deepwater port's natural and human environmental impacts. The Coast Guard is the lead agency for determining the scope of this review, and in this case the Coast Guard has determined that review must include preparation of an EIS. This notice of intent is required by 40 CFR 1501.7, and briefly describes the proposed action and possible alternatives and our proposed scoping process. You can address any questions about the proposed action, the scoping process, or the EIS to the Coast Guard contact person identified in FOR FURTHER INFORMATION CONTACT.

Proposed Action and Alternatives

The proposed action requiring environmental review is the Federal licensing of the proposed deepwater port described in “Summary of the Application” below. The alternatives to licensing the proposed port are: (1) Licensing with conditions (including conditions designed to mitigate environmental impact), and (2) denying the application, which for purposes of environmental review is the “no-action” alternative.

Scoping Process

Public scoping is an early and open process for identifying and determining the scope of issues to be addressed in the EIS. Scoping begins with this notice, continues through the public comment period (see DATES), and ends when the Coast Guard has completed the following actions:

• Invites the participation of Federal, State, and local agencies, any affected Indian tribe, the applicant, and other interested persons;

• Determines the actions, alternatives, and impacts described in 40 CFR 1508.25;

• Identifies and eliminates from detailed study those issues that are not significant or that have been covered elsewhere;

• Allocates responsibility for preparing EIS components;

• Indicates any related environmental assessments or environmental impact statements that are not part of the EIS;

• Identifies other relevant environmental review and consultation requirements;

• Indicates the relationship between timing of the environmental review and other aspects of the application process; and

• At its discretion, exercises the options provided in 40 CFR 1501.7 (b).

Once the scoping process is complete, the Coast Guard will prepare a draft EIS, and we will publish a Federal Register notice announcing its public availability. (If you want that notice to be sent to you, please contact the Coast Guard project manager identified in FOR FURTHER INFORMATION CONTACT.) You will have an opportunity to review and comment on the draft EIS. The Coast Guard will consider those comments and then prepare the final EIS. As with the draft EIS, we will announce the availability of the final EIS and once again give you an opportunity for review and comment.

Summary of the Application

Calypso LNG LLC, proposes to own, construct, and operate a deepwater port, named Calypso, in the Federal waters of the Outer Continental Shelf in the OCS NG 17-06 (Bahamas) lease area, approximately 9 miles off the east coast of Florida to the northeast of Port Everglades, in a water depth of approximately 800 to 950 feet. Calypso would consist of a permanently moored unloading buoy system with two (2) submersible buoys separated by a distance of approximately three (3) miles. Each unloading buoy would be permanently secured to eight or nine mooring lines, consisting of wire rope, chain, and buoyancy elements, each attached to anchor points on the seabed. Anchor points would consist of a combination of suction piles and gravity anchors.

The buoys would be designed to moor and unload two (2) types of LNG vessels: a transport and regasification vessel (TRV) of approximately 140,000 cubic meter capacity and a storage and regasification ship (SRS) of approximately 250,000 cubic meter capacity. Both vessels would be equipped to vaporize LNG cargo to natural gas through an onboard closed loop vaporization system, and to odorize and meter gas for send-out by means of the unloading buoy to conventional subsea pipelines. The TRVs would moor to the westernmost buoy, and the SRS to the easternmost buoy. The mooring buoys would be connected through the vessels' hulls to specially designed turrets that would enable the vessel to weathervane or rotate in response to prevailing wind, wave, and current directions. When the vessels are not present, the buoys would be submerged approximately 100 feet below the sea surface.

The unloading buoys would connect through flexible risers and two (2) approximately 2.5 mile long 30-inch flowlines located on the seabed that would connect directly to the Calypso pipeline, a Federal Energy Regulatory Commission (FERC) permitted pipeline.

Three types of vessels would be associated with the port: The TRV drawn from the existing and future global fleet of specialized LNG carriers compatible with Calypso's unloading buoy system; the SRS, a specialized, purpose-built modified LNG carrier, designed to accept, regasify, odorize and meter LNG from conventional LNG carriers and deliver it to the pipeline through Calypso's unloading buoy system; and conventional LNG carriers. When empty the TRV would disconnect from the buoy and leave the port, followed by another full TRV that would arrive and connect to the buoy. The SRS would normally remain attached to its mooring buoy. To sustain continuous vaporization, the SRS' cargo tanks would be refilled approximately every two (2) to four (4) days by standard LNG carriers drawn from the global fleet. The SRS would be capable of detaching from the buoy if threatened by a severe storm, such as a hurricane, and move under its own power to safety; then return and reconnect to the buoy and continue operations once the storm danger passed.

Calypso would be capable of delivering natural gas in a continuous flow by having at least one TRV or SRS regasifying at all times. The system would be designed so that a TRV and SRS can be moored simultaneously for concurrent unloading of natural gas. Calypso would have an average throughput capacity of approximately 1.1 billion standard cubic feet per day and a peak delivery capacity of 1.9 Bcsfd.

No onshore pipelines or LNG storage facilities are associated with the proposed deepwater port application. A shore based facility would be used to facilitate movement of personnel, equipment, supplies, and disposable materials between the port and shore.

Construction of the deepwater port would be expected to take three (3) years; with startup of commercial operations following construction, should a license be issued. The deepwater port would be designed, constructed and operated in accordance with applicable codes and standards and would have an expected operating life of approximately 25 years.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

(Authority 49 CFR 1.66)

By order of the Maritime Administrator.
Dated: November 16, 2006.
Joel C. Richard,
Secretary, Maritime Administration.

[FR Doc. E6-19659 Filed 11-20-06; 8:45 am]

BILLING CODE 4910-81-P